DEPARTMENT OF ENERGY

Federal Energy Regulatory Commission

[Project No. 2725-068 Georgia]

Oglethorpe Power Corporation, Georgia Power Company; Notice of Availability of Environmental Assessment

April 21, 2005.

In accordance with the National Environmental Policy Act of 1969, as amended, and the Federal Energy Regulatory Commission's (Commission) regulations (18 CFR part 380), Commission staff have reviewed an application for amendment of license for the Rocky Mountain Pumped Storage Project, filed January 24, 2005, to increase the project's authorized generating capacity. The project is located on Heath Creek, near the City of Rome, in Floyd County, Georgia.

The project licensees, Oglethorpe Power Corporation and Georgia Power Company, propose to increase the project's generating capacity through replacing the project's existing pump-turbine runners and possibly modifying the pump-turbine, motor-generator, and auxiliary equipment components. These changes would increase the project's maximum hydraulic capacity at peak generation by 20 to 25 percent, and increase the firm peak generating capacity by 202 megawatts.

In the environmental assessment (EA), Commission staff has analyzed the probable environmental effects of the proposed work and has concluded that approval, with appropriate environmental measures, would not constitute a major federal action significantly affecting the quality of the human environment.

A copy of the EA is attached to a Commission order titled “Order Amending License,” which was issued April 20, 2005, and is available for review at the Commission's Public Reference Room. A copy of the EA may also be viewed on the Commission's Web site at http://www.ferc.gov using the “elibrary” link. Enter the docket number (P-2725) in the docket number field to access the document. For assistance, call (202) 502-8222, or (202) 502-8659 (for TTY).

Magalie R. Salas,
Secretary.

[FR Doc. E5-2021 Filed 4-27-05; 8:45 am]

BILLING CODE 6717-01-P